DEPARTMENT OF DEFENSE

GENERAL SERVICES ADMINISTRATION

NATIONAL AERONAUTICS AND SPACE ADMINISTRATION

48 CFR Parts 2, 4, 12, 39, and 52

[FAR Case 2008-019; Docket 2009-0018; Sequence 1]

RIN: 9000-AL11

Federal Acquisition Regulation; FAR Case 2008-019, Authentic Information Technology Products

AGENCIES: Department of Defense (DoD), General Services Administration (GSA), and National Aeronautics and Space Administration (NASA).

ACTION: Advanced Notice of Proposed Rulemaking; notice of public meetings.

SUMMARY: The Civilian Agency Acquisition Council and the Defense Acquisition Regulations Council (Councils) are hosting six public meetings to continue a dialogue with industry and Government agencies about ways to develop greater assurances regarding the authenticity of information technology (IT) products acquired by the Government. The public meetings will include dialogues on the impact of counterfeit IT products on matters of performance and security; contractor liability and consequential damages; competitiveness issues associated with procuring IT products from the original equipment manufacturer or authorized distributor; identifying viable means of authenticating IT products; and contractor supply chain risk management requirements as an evaluation factor in the procurement of IT products.

DATES: See Supplementary Information section for public meeting dates.

ADDRESSES: See Supplementary Information section for public meeting addresses.

FOR FURTHER INFORMATION CONTACT: Mr. Ernest Woodson, Procurement Analyst, at (202) 501-3775 for clarification of content. For information pertaining to status or publication schedules, contact the Regulatory Secretariat at (202) 501-4755. Please cite FAR case 2008-019.

SUPPLEMENTARY INFORMATION:

A. Public Meeting Dates

1. June 23, 2009, 9 a.m. to 3 p.m., EST.

2. July 15, 2009, 9 a.m. to 3 p.m., EST.

3. July 22, 2009, 9 a.m. to 3 p.m., EST.

4. July 29, 2009, 9 a.m. to 3 p.m., EST.

5. August 5, 2009, 9 a.m. to 3 p.m., EST.

6. August 12, 2009, 9 a.m. to 3 p.m., EST.

B. Public Meeting Addresses

1. The meetings for June 23 and July 15 will be conducted at General Services Administration (GSA), 1800 F Street, NW, Washington, DC 20405, in the GSA Auditorium.

2. The subsequent meetings, July 22, July 29, August 5, and August 12 will be conducted at General Services Administration (GSA), 1800 F Street, NW, Washington, DC 20405, in Room 5141B.

Interested parties are encouraged to arrive at least 30 minutes early to accommodate security procedures.

If you wish to make a presentation on any of the topics, please contact and submit a copy of your presentation 5 days prior to the meeting date, to General Services Administration, Contract Policy Division (VPC), 1800 F Street, NW, Room 4040, Attn: Ernest Woodson, Washington, DC 20405. Telephone: (202) 501-3775.

Submit electronic materials via e-mail to ernest.woodson@gsa.gov. Please submit presentations only and cite Public Meeting Authentic IT Products Continued Dialogue, in all correspondence related to the public meetings. The submitted presentations will be the only record of the public meeting. After the July 15, 2009 meeting, all subsequent meetings are subject to be cancelled. For that reason, all interested parties should contact Ernest Woodson after July 15, 2009, to verify that subsequent meetings are being held.

Special Accommodations: The public meetings are physically accessible to people with disabilities. Request for sign language interpretation or other auxiliary aids should be directed to Ernest Woodson at (202) 501-3775, at least 5-working days prior to the meeting date.

C. Background

On December 11, 2008, the Councils conducted a public meeting, (see Federal Register notice at 73 FR 68373 on November 18, 2008) to seek comments from both Government and industry, on among other things, whether the Federal Acquisition Regulation (FAR) should be revised to include a requirement that contractors selling information technology (IT) products (including computer hardware and software) represent that such products are authentic. The Councils were interested in comments regarding contractor liability if IT products sold to the Government by contractor are not authentic, and whether contractors who are resellers or distributors of computer hardware and software should represent to the Government that they are authorized by the original equipment manufacturer (OEM) to sell the IT products to the Government. The Councils also sought comments on (1) whether the measures contemplated above should be extended to other items purchased by the Government; and (2) whether the rule should apply when IT is a component of a system or assembled product.

The public meetings contemplated by this notice will continue a dialogue with industry and Government agencies on the impact of counterfeit IT products on matters of performance and security; contractor liability and consequential damages; competitiveness issues associated with procuring IT products from the original equipment manufacturer or authorized distributor; identifying viable means of authenticating IT products; and contractor supply chain risk management requirements as an evaluation factor in the procurement of IT products. The meetings are intended to provide for an exchange of information and ideas that may be used to assist in developing greater assurance around IT products acquired by the Government.

List of Subjects in 48 CFR Parts 2, 4, 12, 39, and 52

Government procurement.

Dated: May 29, 2009
Al Matera,
Director, Office of Acquisition Policy.

[FR Doc. E9-12927 Filed 6-2-09; 8:45 am]

BILLING CODE 6820-EP-S